DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground. Modified | Communities affected
Marshall County, Alabama, and Incorporated Areas
Docket No.: FEMA-B-7702
Guntersville Lake | Approximately 5,000 feet downstream of SR 69 Crossing | +596 | City of Guntersville, Marshall County (Unincorporated Areas).
| SR 69 Crossing | +596
* National Geodetic Vertical Datum.
# Depth in feet above ground.
+ North American Vertical Datum.
ADDRESSES
City of Guntersville
Maps are available for inspection at 341 Gunter Avenue, Guntersville, AL 35976.
Marshall County (Unincorporated Areas)
Maps are available for inspection at 424 Blount Avenue, Guntersville, AL 35976.
Gallatin County, Kentucky and Incorporated Areas
Docket No.: FEMA-B-7711
Ohio River | Carroll County Line | +471 | City of Warsaw, Gallatin County (Unincorporated Areas).
| Boone County Line | +479
* National Geodetic Vertical Datum.
# Depth in feet above ground.
+ North American Vertical Datum.
ADDRESSES
City of Warsaw
Maps are available for inspection at 101 West Market Street, Warsaw, KY 41095.
Gallatin County (Unincorporated Areas)
Maps are available for inspection at 200 Washington Street, Warsaw, KY 41095.
Letcher County, Kentucky, and Incorporated Areas
Docket No.: FEMA-B-7713
North Fork Kentucky River | Approximately 0.29 miles downstream of Hazard Road | +1124 | Letcher County (Unincorporated Areas).
| Approximately 0.14 miles downstream of the CSX Railroad (City of Whitesburg Corporate Limits) | +1137
| Approximately 0.16 miles downstream of State Route 15 near Piedmont Drive (City of Whitesburg Corporate Limits) | +1161
| Approximately 0.14 miles upstream of State Route 15 near the confluence with Pert Creek | +1176
* National Geodetic Vertical Datum.
# Depth in feet above ground.
+ North American Vertical Datum.
ADDRESSES
Letcher County (Unincorporated Areas)
Maps are available for inspection at 156 Main Street, Whitesburg, KY 41858.
Trimble County, Kentucky, and Incorporated Areas
Docket No.: FEMA-B-7713
Ohio River | Trimble County Limits (Downstream) | +463 | City of Milton.
| Trimble County Limits (Upstream) | +464
| Oldham County Line | +457 | Trimble County (Unincorporated Areas).
| City of Milton Corporate Limits | +463
| City of Milton Corporate Limits | +464
| Carroll County Line | +464
* National Geodetic Vertical Datum.
# Depth in feet above ground.
+ North American Vertical Datum.
ADDRESSES
City of Milton
Maps are available for inspection at 10179 U.S. Highway 421 North, Milton, KY 40045.
Trimble County (Unincorporated Areas)
Maps are available for inspection at 123 Church Street, Bedford, KY 40006.
Wayne County, Nebraska and Incorporated Areas
Docket No.: FEMA-B-7464
Deer Creek | At confluence with South Logan Creek | +1450 | City of Wayne.
| At 574th Avenue | +1460
Dog Creek | Approximately 2000 feet upstream of confluence with South Logan Creek | +1420 | City of Wayne.
| At 858th Road | +1439
South Logan Creek | Approximately 350 feet downstream of confluence with Dog Creek | +1416 | City of Wayne.
| Approximately 75 feet upstream of Highway 15 | +1444
| Approximately 200 feet upstream of 854th Road | +1465
# Depth in feet above ground.
* National Geodetic Vertical Datum.
+ North American Vertical Datum.
ADDRESSES
City of Wayne
Maps are available for inspection at the City Office, 306 Pearl Street, Wayne, NE 68787.
Sandoval County, New Mexico and Incorporated Areas
Docket No.: FEMA-B-7709
Tributary A (southern split) | Approximately 130 feet upstream from the convergence with Tributary A | +5417 | City of Rio Rancho.
| Approximately 115 feet upstream from 11th street | +5436
* National Geodetic Vertical Datum.
# Depth in feet above ground.
+ North American Vertical Datum.
ADDRESSES
City of Rio Rancho
Maps are available for inspection at 3900 Southern Blvd, Rio Rancho, NM 87124.
Brown County, South Dakota, and Incorporated Areas
Docket No.: FEMA-B-7473
4th Street Drainageway | Approximately 400 feet downstream of Sixth Street | +1,295 | City of Groton.
| Approximately 200 feet downstream of Sixth Street | +1,296
| Approximately 300 feet upstream of 13th Avenue/Highway 12 | +1,302
# Depth in feet above ground.
* National Geodetic Vertical Datum.
+ North American Vertical Datum.
ADDRESSES
City of Groton
Maps are available for inspection at City Hall, 204 North Main Street, Groton, South Dakota 57445.

(Catalog of Federal Domestic Assistance No. 97.022, Flood Insurance.)

Dated: September 21, 2007.
David I. Maurstad,
Federal Insurance Administrator of the National Flood Insurance Program, Department of Homeland Security, Federal Emergency Management Agency.

[FR Doc. E7-19681 Filed 10-4-07; 8:45 am]

BILLING CODE 9110-12-P